DEPARTMENT OF THE INTERIOR

Bureau of Land Management

[LLAK920000-L14100000-BJ0000]

Notice of Filing of Plats of Survey; Alaska

AGENCY: Bureau of Land Management, Interior.

ACTION: Notice of filing of plats of survey.

SUMMARY: Notice of filing of plats of survey; Alaska.

DATES: The plat(s) of survey described below is scheduled to be officially filed in the Alaska State Office, Bureau of Land Management, Anchorage, Alaska, thirty (30) days from the date of publication in the Federal Register.

ADDRESSES: Bureau of Land Management, Alaska State Office; 222 W. 7th Ave., Stop 13; Anchorage, AK 99513-7599.

FOR FURTHER INFORMATION CONTACT: Michael H. Schoder, Chief Cadastral Surveyor for Alaska, Division of Cadastral Survey, telephone: 907-271-5481; fax: 907-271-4549; e-mail: mschoder@blm.gov.

SUPPLEMENTARY INFORMATION: This survey was executed at the request of the National Park Service, Alaska Region, and represents reacquired Federal Lands as part of a land exchange authorized by Public Law 105-317.

The lands surveyed are:

The plat(s) and field notes of U.S. Survey No. 13830, Alaska, a subdivision of a portion 1C and 1D, U.S. Survey No. 1249, the retracement of a portion of U.S. Survey No. 3414, the retracement and dependent resurvey of portions of U.S. Survey No. 13151 and an informational traverse of the apparent centerline of portions of the Chilkoot Trail, situated on the Taiya River approximately 4 miles northwesterly of Skagway, Alaska, within Tps. 25, 26 and 27 S., Rs. 59 and 60 E., Copper River Meridian.

We will place copies of the survey plat and field notes we describe in open files. They will be available to the public as a matter of information. Copies may be obtained from this office for a minimum recovery fee.

If BLM receives a protest against the survey, as shown on the plat, prior to the date of official filing, the filing will be stayed pending consideration of the protest. We will not officially file the plat until the day after we have accepted or dismissed all protests and they have become final, including decisions on appeals.

Authority: 43 U.S.C. chap. 3 sec. 53.

Dated: January 5, 2010.
Michael H. Schoder,
Chief Cadastral Surveyor.

[FR Doc. 2010-216 Filed 1-14-10; 8:45 am]

BILLING CODE 4310-JA-P